DEPARTMENT OF COMMERCE

National Oceanic and Atmospheric Administration

RIN 0648-XR18

North Pacific Fishery Management Council; Public Meetings

AGENCY: National Marine Fisheries Service (NMFS), National Oceanic and Atmospheric Administration (NOAA), Commerce.

ACTION: Notice of public meetings.

SUMMARY: The North Pacific Fishery Management Council's (Council) Crab Plan Team will meet September 14-16, 2009. The Crab Plan Team will meet jointly with the Council's Groundfish Plan Teams on September 16.

DATES: The meetings will be held September 14-16, 2009.

ADDRESSES: The meetings will be held at the Alaska Fishery Science Center, 7600 Sand Point Way, NE, Bldg 4, Traynor Room, Seattle, WA.

Council address: North Pacific Fishery Management Council, 605 W. 4th Ave., Suite 306, Anchorage, AK 99501-2252.

FOR FURTHER INFORMATION CONTACT: Diana Stram, North Pacific Fishery Management Council; telephone: (907) 271-2809.

SUPPLEMENTARY INFORMATION: The primary purpose of the meeting is to review final stock assessment chapters for 8 BSAI crab stocks and make final OFL recommendations. Other agenda items include: review Crab Economic SAFE chapter; review boundaries of the St. Matthew habitat conservation zone and Northern Bering Sea Research Area, provide recommendations regarding additional controls on crab bycatch in groundfish fisheries; review and revise research priorities; provide EFH and HAPC recommendations; review proposed ABC control rules for crab species to comply with ACL regulations. The agenda for both meeting will be posted at http://www.alaskafisheries.noaa.gov/npfmc/

Although non-emergency issues not contained in this agenda may come before these groups for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aids should be directed to Gail Bendixen, (907) 271-2809, at least 5 working days prior to the meeting date.

Dated: August 24, 2009.
Tracey L. Thompson,
Acting Director, Office of Sustainable Fisheries, National Marine Fisheries Service.

[FR Doc. E9-20690 Filed 8-26-09; 8:45 am]

BILLING CODE 3510-22-S